DEPARTMENT OF HEALTH AND HUMAN SERVICES

[Document Identifier: OS-4040-0001]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before August 30, 2022.

ADDRESSES: Submit your comments to sagal.musa@hhs.gov or by calling (202) 205-2634.

FOR FURTHER INFORMATION CONTACT: When submitting comments or requesting information, please include the document identifier 4040-0001-60D and project title for reference, to Sagal Musa, email: sagal.musa@hhs.gov, or call (202) 205-2634 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Application for Federal Assistance SF 424 R&R forms.

Type of Collection: Renewal.

OMB No. 4040-0001.

Abstract: The SF-424 R&R family of forms provides the Federal grant-making agencies an alternative to the Standard Form 424 data set and form. Agencies may use the SF-424 R&R forms for grant programs not required to collect all the data that is required on the SF-424 core data set and form. This 4040-0001 collection encompasses 18 forms.

Type of respondent: The SF-424 R&R family of forms are used by organizations to apply for Federal financial assistance in the form of grants. These forms are submitted to the Federal grant-making agencies for evaluation and review.

Annualized Burden Hour Table
Forms (if necessary) | Respondents (if necessary) | Number of respondents | Number of responses per respondents | Average burden per response | Total burden hours
SF-424 R&R Multi-Project Cover | Grant Applicants | 1,519 | 1 | 1 | 1,519
SF424 (R&R) | Grant Applicants | 109,455 | 1 | 1 | 109,455
SBIR/STTR Information | Grant Applicants | 6,376 | 1 | 1 | 6,376
RR FedNonFed Budget | Grant Applicants | 0 | 1 | 1 | 0
Research and Related Senior/Key Person Profile (Expanded | Grant Applicants | 108,543 | 1 | 1 | 108,543
Research And Related Other Project Information | Grant Applicants | 37,603 | 1 | 1 | 37,603
Research & Related Budget | Grant Applicants | 63,909 | 1 | 1 | 63,909
Research & Related Subaward Budget (Total Fed + Non-Fed) Attachment(s) Form | Grant Applicants | 0 | 1 | 1 | 0
Research & Related Subaward Budget (Total Fed + Non-Fed) 5 YR 30 ATT | Grant Applicants | 0 | 1 | 1 | 0
Research & Related Senior/Key Person Profile | Grant Applicants | 695 | 1 | 1 | 695
Research & Related Personal Data | Grant Applicants | 0 | 1 | 1 | 0
Research & Related Multi-Project 10 Year Budget | Grant Applicants | 3,847 | 1 | 1 | 3,847
Research & Related Budget 10 YR | Grant Applicants | 0 | 1 | 1 | 0
R&R Subaward Budget Attachment(s) Form 5 YR 30 ATT | Grant Applicants | 59,767 | 1 | 1 | 59,767
R&R Subaward Budget Attachment(s) Form 10 YR 30 ATT | Grant Applicants | 1,023 | 1 | 1 | 1,023
R&R Subaward Budget Attachment(s) Form 10 YR 10 ATT | Grant Applicants | 0 | 1 | 1 | 0
R&R Subaward Budget Attachment (s) Form | Grant Applicants | 271 | 1 | 1 | 271
R&R R Multi-Project Subaward Budget Attachment(s) Form 10 YR 30 ATT | Grant Applicants | 1,023 | 1 | 1 | 1,023
Total |  | 394,031 | 1 | 1 | 394,031

Sherrette A. Funn,
Paperwork Reduction Act Reports Clearance Officer, Office of the Secretary.

[FR Doc. 2022-14156 Filed 6-30-22; 8:45 am]

BILLING CODE 4150-AE-P